DEPARTMENT OF COMMERCE

Technology Administration

National Medal of Technology Nomination Evaluation Committee (NMTNEC)

AGENCY: Technology Administration, Department of Commerce.

ACTION: Notice of Recruitment for Additional Members for NMTNEC.

SUMMARY: The Department of Commerce, Technology Administration (TA), requests nominations of individuals for appointment to the National Medal of Technology Nomination Evaluation Committee (NMTNEC). The Committee provides advice to the Secretary on the implementation of Public Law 96-480 (15 U.S.C. 3711) under the Federal Advisory Committee Act, 5 U.S.C. app. 2. Public Law 105-309; 15 U.S.C. 3711, Section 10, approved by the 105th Congress in 1998, added the National Technology Medal for Environmental Technology. The terms of several current members have expired and the period of nominations will identify their replacement.

DATES: Please submit nominations on or before February 17, 2000.

ADDRESSES: Submit nominations to the National Medal of Technology Program Office, Technology Administration, U.S. Department of Commerce, 1401 Constitution Avenue, NW, Room 4226, Washington, DC 20230. Materials may be faxed to 202-501-8153.

FOR FURTHER INFORMATION CONTACT: Stanley Dapkunas, Acting Director, 202-482-5572.

SUPPLEMENTARY INFORMATION: The National Medal of Technology was rechartered on December 8, 1999 for a period of two years to provide advice to the Secretary on the implementation of Public Law 96-480 (15 U.S.C. 3711) under the Federal Advisory Committee Act, 5 U.S.C. app. 2. The National Medal of Technology Nomination Evaluation Committee (NMTNEC) serves as an advisory body to the Under Secretary of Technology in his capacity as Chair of the Steering committee, which reports directory to the Secretary of Commerce. Members are responsible for reviewing nominations and making recommendations for the nation's highest honor for technological innovation, awarded annually by the President of the United States. Members of the NMTNEC have an understanding of, and experience in, developing and utilizing technological innovation and/or they are familiar with the education, training, employment and management of technological human resources.

Under the Federal Advisory Committee Act, membership in a committee constituted under the Act must be balanced. To achieve balance, the Department is seeking additional nominations of candidates from small, medium-sized, and large businesses or with special expertise in the following subsectors of the technology enterprise;

(1) Infrastructure & Transportation/Telecommunications;

(2) Biomedical/Pharmaceutical/Health;

(3) Human Resources/Education; and

(4) Other (including manufacturing, process, environmental technology, transportation).

Typically, committee members are present or former Chief Executive Officers or other senior leaders of corporations; presidents or distinguished faculty of universities; or senior executives of non-profit organizations. They offer stature by virtue of their positions and also possess first-hand knowledge of the forces driving future directions for their industries or fields of expertise. The Committee as a whole is balanced in representing geographical, professional, and diversity interests. Nominees must be U.S. citizens, must be able to fully participate in meetings pertaining to the review and selection of finalists for the National Medal of Technology, and must uphold the confidential nature of an independent peer review and competitive selection process.

The Department of Commerce is committed to equal opportunity in the workplace and seeks a broad-based and diverse NMTNEC membership.

Dated: January 27, 2000.
Gary Bachula,
Acting Under Secretary of Commerce for Technology.

[FR Doc. 00-2127 Filed 2-1-00; 8:45 am]

BILLING CODE 3510-18-M